DEPARTMENT OF EDUCATION

[CFDA No.: 84.031S]

Office of Postsecondary Education; Developing Hispanic-Serving Institutions (HSI) Program

ACTION: Notice inviting applications for new awards for fiscal year (FY) 2003 competition; correction.

Notice to Applicants: On January 29, 2003 a notice inviting applications for new awards for the Hispanic-Serving Institutions (HSI) Program was published in the Federal Register (68 FR 4454 through 4456). On page 4454, the Deadline for Intergovernmental Review of “April 30, 2003” is corrected to read “May 2, 2003”. Additionally, in column 3 on the same page, the applicability of the “Page Limit” section is corrected to read as follows: “The page limit does not apply to the application cover sheet (ED 424), Dual Submission Certification, the one-page abstract, the Certification Regarding Collaborative Arrangement (ED 851S-8), the Hispanic-Serving Institutions Assurance Form (ED 851S-7), and the Cooperative Arrangement Form (ED 851S-1). The page limit does, however, apply to all remaining parts of the application.”

For Applications and Further Information Contact: Louis Venuto, U.S. Department of Education, Title V, Developing Hispanic-Serving Institutions Program, 1990 K Street NW., 6th floor, Washington, DC 20006-8513. Telephone: (202) 502-7763 or via Internet: title.five@ed.gov.

If you use a telecommunications device for the deaf (TDD), you may call the Federal Information Relay Service (FIRS) at 1-800-877-8339.

Individuals with disabilities may obtain this document in an alternative format (e.g. Braille, large print, audiotape, or computer diskette) on request to the program contact person listed under For Applications and Further Information Contact.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of a document is the document published in the Federal Register. Free Internet access to the official edition of the Federal Register and the Code of Federal Regulations is available on GPO Access at: http://www.access.gpo.gov/nara/index.html.

Program Authority: 20 U.S.C. 1101-1101d, 1103-1103g.

Dated: February 6, 2003.
Sally L. Stroup,
Assistant Secretary, Office of Postsecondary Education.

[FR Doc. 03-3396 Filed 2-10-03; 8:45 am]

BILLING CODE 4000-01-P